DEPARTMENT OF TRANSPORTATION

Federal Aviation Administration

14 CFR Part 73

[Docket No. FAA-2009-0108; Airspace Docket No. 08-ASW-8]

RIN 2120-AA66

Change of Using Agency for Restricted Area 6320; Matagorda, TX

AGENCY: Federal Aviation Administration (FAA), DOT.

ACTION: Final rule.

SUMMARY: This action changes the using agency of R-6320, Matagorda, TX, from United States Customs Service” to “Continental North American Aerospace Defense Command Region (CONR).” The FAA is taking this action in response to a request from the United States Air Force (USAF), supported by United States Customs and Border Protection (legacy United States Customs Service), to reflect an administrative change of responsibility for the restricted area. There are no changes to the boundaries; designated altitudes; time of designation; or activities conducted within the affected restricted area.

DATES: Effective Date: 0901 UTC, May 7, 2009.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

History

On December 10, 2008, the USAF requested that the FAA change the using agency for R-6320 from, “United States Customs Service” to “Continental North American Aerospace Defense Command Region (CONR).” The USAF request was based on their interest in retaining the restricted area and expected funding in the future to purchase and house another aerostat system within that restricted airspace. United States Customs and Border Protection (legacy United States Customs Service) confirmed they have no interest in maintaining operational control over R-6320 and agreed to relinquish the using agency responsibility to CONR. Coordination with Houston Air Route Traffic Control Center was effected prior to this using agency change request being submitted by the USAF.

Section 73.63 of 14 CFR Part 73 was republished in FAA Order 7400.8R, dated February 5, 2009.

The Rule

This action amends Title 14 Code of Federal Regulations (14 CFR) part 73 by revising the using agency listed for R-6320, Matagorda, TX; transferring using agency responsibility for R-6320 from “United States Customs Service” to “Continental North American Aerospace Defense Command Region (CONR).” This is an administrative change and does not affect the boundaries, designated altitudes, or activities conducted within the restricted area; therefore, notice and public procedures under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311d., FAA Order 1050.1E, Environmental Impacts: Policies and Procedures. This airspace action is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.63 [Amended]

2. § 73.63 is amended as follows:

* * * * *

R-6320 Matagorda, TX [Amended]

By removing the words “Using agency. United States Customs Service” and inserting the words “Using agency. Continental North American Aerospace Defense Command Region (CONR).”

* * * * *

Issued in Washington, DC, March 2, 2009.
Edith V. Parish,
Manager, Airspace and Rules Group.

[FR Doc. E9-4948 Filed 3-9-09; 8:45 am]

BILLING CODE 4910-13-P